DEPARTMENT OF COMMERCE

National Oceanic and Atmospheric Administration

[RTIDs 0648-XT029, 0648-XT034]

Schedules for Atlantic Shark Identification Workshops and Safe Handling, Release, and Identification Workshops; Correction

AGENCY: National Marine Fisheries Service (NMFS), National Oceanic and Atmospheric Administration (NOAA), Commerce.

ACTION: Notice of public workshops; correction.

SUMMARY: NMFS announces that the date for the Atlantic Shark Identification workshop originally scheduled for April 2, 2020, in Wilmington, NC has been changed to July 2, 2020. Also, NMFS is postponing the Safe Handling, Release, and Identification workshops originally scheduled for Houston, TX on March 17, 2020; Kitty Hawk, NC on April 1, 2020; and Revere, MA on April 3, 2020. The dates for these workshops have been changed to June 26, 2020, June 29, 2020, and June 16, 2020, respectively. The dates are being changed due to concerns about the spread of the COVID-19 virus associated with traveling to, and attending, the originally scheduled workshops. The workshop times and locations remains unchanged: 12 p.m.-4 p.m. for the Atlantic Shark Identification workshop; and, 9 a.m. to 5 p.m. for the Safe Handling, Release, and Identification workshops. The remaining workshops in May and June 2020 remain unchanged, unless further noticed. Atlantic Shark Identification workshops are mandatory for federally-permitted Atlantic shark dealers. Safe Handling, Release, and Identification workshops are mandatory for shark and swordfish limited-access permit holders who fish with longline or gillnet gear. Additional free workshops will be conducted during 2020.

DATES: The date for the Atlantic Shark Identification workshop to be held in Wilmington, NC is changed to July 2, 2020, unless further noticed. The dates for the Safe Handling, Release, and Identification workshops to be held in Revere, MA, Houston, TX, and Kitty Hawk, NC, are changed to June 16, June 26, and June 29, 2020, respectively, unless further noticed. See SUPPLEMENTARY INFORMATION for further details.

ADDRESSES: The address for the Atlantic Shark Identification to be held in Wilmington, NC, remains at Hampton Inn, 124 Old Eastwood Road, Wilmington, NC 28403. The Safe Handling, Release, and Identification workshops remain at Holiday Inn Express, 9300 South Main Street, Houston, TX 77025; Hilton Garden Inn, 5353 North Virginia Dare Trail, Kitty Hawk, NC 27949; and, Hampton Inn, 230 Lee Burbank Highway, Revere, MA 02151. See SUPPLEMENTARY INFORMATION for further details.

FOR FURTHER INFORMATION CONTACT: Rick Pearson by phone: (727) 551-5742.

SUPPLEMENTARY INFORMATION: The workshop schedules, registration information, and a list of frequently asked questions regarding these workshops are posted on the internet at: https://www.fisheries.noaa.gov/atlantic-highly-migratory-species/safe-handling-release-and-identification-workshops, and https://www.fisheries.noaa.gov/atlantic-highly-migratory-species/atlantic-shark-identification-workshops.

Correction

In the Federal Register (Doc. 2019-25673) of November 26, 2019, on page 65117, in the first column, correct the date of the sixth Safe Handling, Release, and Identification workshop listed under the heading Workshop Dates, Times, and Locations to read:

“6. June 26, 2020, 9 a.m.-5 p.m., Holiday Inn Express, 9300 South Main Street, Houston, TX 77025.”

In the Federal Register (Doc. 2020-04022) of February 27, 2020, on page 11346, in the third column, correct the date of the first Atlantic Shark Identification workshop listed under the heading Workshop Dates, Times, and Locations to read:

“1. July 2, 2020, 12 p.m.-4 p.m., Hampton Inn, 124 Old Eastwood Road, Wilmington, NC 28403.”

In the Federal Register (Doc. 2020-04022) of February 27, 2020, on page 11347, in the first column, correct the dates of the first and second Safe Handling, Release, and Identification workshops listed under the heading Workshop Dates, Times, and Locations to read:

“1. June 29, 2020, 9 a.m.-5 p.m., Hampton Inn, 124 Old Eastwood Road, Wilmington, NC 28403.

2. June 16, 2020, 9 a.m.-5 p.m., Hampton Inn, 230 Lee Burbank Highway, Revere, MA 02151.”

(Authority: 16 U.S.C. 1801 et seq.)

Dated: March 26, 2020.
Hélène M.N. Scalliet,
Acting Director, Office of Sustainable Fisheries, National Marine Fisheries Service.

[FR Doc. 2020-06702 Filed 3-31-20; 8:45 am]

BILLING CODE 3510-22-P